DEPARTMENT OF HEALTH AND HUMAN SERVICES

National Institutes of Health

Proposed Collection; 30-Day Comment Request; Application To Participate in the National Institutes of Health Technical Assistance Programs: Commercialization Accelerator Program (CAP)

AGENCY: National Institutes of Health, HHS.

ACTION: Notice.

SUMMARY: In compliance with the Paperwork Reduction Act of 1995, the National Institutes of Health (NIH) has submitted to the Office of Management and Budget (OMB) a request for review and approval of the information collection listed below. This proposed information collection was previously published in the Federal Register on June 15, 2017, page 27516 (82 FR 27516) and allowed 60 days for public comment. No public comments were received. The purpose of this notice is to allow an additional 30 days for public comment.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: J. P. Kim, NIH SBIR/STTR Program Manager & NIH Extramural Data Sharing Policy Officer, Small Business Innovation Research (SBIR) and Small Business Technology Transfer (STTR) Program Office, Office of Extramural Programs (OEP)/Office of Extramural Research (OER), Office of the Director (OD)/National Institutes of Health (NIH), 6705 Rockledge Drive, Suite 350; Bethesda, Maryland 20892-7963 or call non-toll-free number (301) 435-0189 or Email your request, including your address to: jpkim@nih.gov. Formal requests for additional plans and instruments must be requested in writing.

SUPPLEMENTARY INFORMATION: The Commercialization Accelerator Program (CAP), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Application to Participate in the National Institutes of Health Technical Assistance Programs: Commercialization Accelerator Program (CAP)—0925—Existing Without OMB Approval, Office of Extramural Programs (OEP)/Office of Extramural Research (OER), Office of the Director (OD)/National Institutes of Health.

Need and Use of Information Collection: The purpose of this application is to collect information to be used internally by the NIH SBIR/STTR staff to identify and select small businesses that would most benefit if selected as participants in the NIH Commercialization Accelerator Program (CAP). The data will not be used to formulate or change policies. Rather, it will be used to enable NIH SBIR/STTR staff to be responsive to its constituents by offering commercialization training to meet the goals of the Phase II small business NIH awardees. The form will be online for any potential CAP applicant companies and completed electronically.

OMB approval is requested for 3 years. There are no costs to respondents other than their time. The total estimated annualized burden hours are 150.

Estimated Annualized Burden Hours
Type of respondent | Number of respondents | Number of responses per respondent | Average time per response | Total annual burden hour
SBIR Phase II Awardees | 100 | 1 | 90 | 150
Total | 100 | 100 |  | 150

Dated: September 1, 2017.
Lawrence A. Tabak,
Principal Deputy Director, National Institutes of Health.

[FR Doc. 2017-19078 Filed 9-7-17; 8:45 am]

BILLING CODE 4140-01-P